DEPARTMENT OF THE INTERIOR

Office of the Secretary

[19XD0120SW/DT10100000/DSW000000.54AB00; OMB Control Number 1035-0003]

Agency Information Collection Activities; Application To Withdraw Tribal Funds From Trust Status

AGENCY: Office of the Special Trustee for American Indians, Interior.

ACTION: Notice of information collection; request for comment.

SUMMARY: In accordance with the Paperwork Reduction Act of 1995, the Office of the Special Trustee for American Indians (OST), we are proposing to renew an information collection.

DATES: Interested persons are invited to submit comments on or before January 25, 2019.

ADDRESSES: Send your comments on this information collection request (ICR) by mail to the Jeffrey M. Parrillo, Departmental Information Collection Clearance Officer, Department of the Interior, Office of the Secretary, Office of the Chief Information Officer, Planning and Performance Management Division, 1849 C Street NW, Washington, DC 20240; or by email to jeffrey_parrillo@ios.doi.gov. Please reference Office of Management and Budget (OMB) Control Number 1035-0003 in the subject line of your comments.

FOR FURTHER INFORMATION CONTACT: To request additional information about this ICR, contact John Montel by email to john_montel@ost.doi.gov, or by telephone at (202) 208-3939.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the OST; (2) will this information be processed and used in a timely manner; (3) is the estimate of burden accurate; (4) how might the OST enhance the quality, utility, and clarity of the information to be collected; and (5) how might the OST minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This notice is for renewal of information collection under OMB regulations at 5 CFR part 1320 that implement the Paperwork Reduction Act of 1995, 44 U.S.C. 3501 et seq. These regulations require interested members of the public and affected agencies have an opportunity to comment on information collection and recordkeeping activities (see 5 CFR 1320.8 (d)). This notice identifies an information collection activity that the OST is submitting to OMB for renewal.

Public Law 103-412, The American Indian Trust Fund Management Reform Act of 1994, allows Indian tribes on a voluntary basis to take their funds out of trust status within the Department of the Interior (and the Federal Government) in order to manage such funds on their own. 25 CFR part 1200, subpart B, Sec. 1200.13, “How does a tribe apply to withdraw funds?” describes the requirements for application for withdrawal. The Act covers all tribal trust funds including judgment funds as well as some settlements funds, but excludes funds held in Individual Indian Money accounts. Both the Act and the regulations state that upon withdrawal of the funds, the Department of the Interior (and the Federal Government) have no further liability for such funds. Accompanying their application for withdrawal of trust funds, tribes are required to submit a Management Plan for managing the funds being withdrawn, to protect the funds once they are out of trust status.

This information collection allows the OST to collect the tribes' applications for withdrawal of funds held in trust by the Department of the Interior. If OST did not collect this information, the OST would not be able to comply with the American Indian Trust Fund Management Reform Act of 1994, and tribes would not be able to withdraw funds held for them in trust by the Department of the Interior.

Title of Collection: Application to Withdraw Tribal Funds from Trust Status, 25 CFR 1200.

OMB Control Number: 1035-0003.

Form Number: None.

Type of Review: Extension of a currently approved collection.

Respondents/Affected Public: Tribal governments.

Total Estimated Number of Annual Respondents: One respondent, on average, every three years.

Total Estimated Number of Annual Responses: 1.

Estimated Completion Time per Response: 750 hours.

Total Estimated Number of Annual Burden Hours: 750.

Respondent's Obligation: Required to obtain or retain a benefit.

Frequency of Collection: Once per tribe per trust fund withdrawal application.

Total Estimated Annual Non-hour Burden Cost: None.

An agency may not conduct or sponsor and a person is not required to respond to a collection of information unless it displays a currently valid OMB control number.

The authority for this action is the Paperwork Reduction Act of 1995 (44 U.S.C. 3501 et seq.).

Jerold Gidner,
Principal Deputy Special Trustee, Office of the Special Trustee for American Indians.

[FR Doc. 2018-25726 Filed 11-23-18; 8:45 am]

BILLING CODE 4334-63-P